DEPARTMENT OF JUSTICE

[OMB Number 1190—NEW]

Agency Information Collection Activities; Proposed eCollection; eComments Requested; Requirement that Movie Theaters Provide Notice as to the Availability of Closed Movie Captioning and Audio Description

AGENCY: Civil Rights Division, Department of Justice.

ACTION: 30-Day notice.

SUMMARY: The Department of Justice (the Department), Civil Rights Division, Disability Rights Section (DRS), will be submitting the following information collection request to the Office of Management and Budget (OMB) for review and approval in accordance with the Paperwork Reduction Act of 1995 (PRA). This proposed information collection request was previously published in the Federal Register at 81 FR 37643, on June 10, 2016, allowing for a 60-day comment period.

DATES: Comments are encouraged and will be accepted for an additional 30 days until September 29, 2016.

FOR FURTHER INFORMATION CONTACT: If you have additional comments (especially on the estimated public burden or associated compliance time) or need additional information, please contact Rebecca B. Bond, Chief, Disability Rights Section, Civil Rights Division, U.S. Department of Justice, by any one of the following methods: By email at DRS.PRA@usdoj.gov; by regular U.S. mail at Disability Rights Section, Civil Rights Division, U.S. Department of Justice, P.O. Box 2885, Fairfax, VA 22031-0885; by overnight mail, courier, or hand delivery at Disability Rights Section, Civil Rights Division, U.S. Department of Justice, 1425 New York Avenue NW., Suite 4039, Washington, DC 20005; or by phone at (800) 514-0301 (voice) or (800) 514-0383 (TTY) (the Division's Information Line). Include in the subject line of all comments the title of this proposed collection: “Requirement that Movie Theaters Provide Notice as to the Availability of Closed Movie Captioning and Audio Description.” Written comments or suggestions can also be directed to the Office of Management and Budget, Office of Information and Regulatory Affairs, Attention Department of Justice Desk Officer, Washington, DC 20503, or sent to OIRA_submissions@omb.eop.gov.

You may obtain copies of this notice in an alternative format by calling the Americans with Disabilities Act (ADA) Information Line at (800) 514-0301 (voice) or (800) 514-0383 (TTY).

SUPPLEMENTARY INFORMATION: Written comments and suggestions from the public and affected agencies concerning the proposed collection of information are encouraged. Your comments should address one or more of the following four points:

—Evaluate whether the proposed collection of information is necessary for the proper performance of the functions of the Civil Rights Division, including whether the information will have practical utility;

—Evaluate the accuracy of the agency's estimate of the burden of the proposed collection of information, including the validity of the methodology and assumptions used;

—Enhance the quality, utility, and clarity of the information to be collected can be enhanced; and/or

—Minimize the burden of the collection of information on those who are to respond, including through the use of appropriate automated, electronic, mechanical, or other technological collection techniques or other forms of information technology, e.g., permitting electronic submission of responses.

Overview of Information Collection

1. Type of information collection: New information collection.

2. The title of the form/collection: Requirement that Movie Theaters Provide Notice as to the Availability of Closed Movie Captioning and Audio Description.

3. The agency form number, if any, and the applicable component of the Department sponsoring the collection:

Form Number: None.

Component: The applicable component within the Department of Justice is the Disability Rights Section in the Civil Rights Division.

4. Affected public who will be required to comply, as well as a brief abstract:

Affected Public (Primary): Businesses and not-for-profit institutions that own, operate, or lease a movie theater that has one or more auditoriums showing movies with closed movie captioning and audio description, and that provide notice of movie showings and times. For purposes of the proposed rule and this notice, “movie theater” means a facility other than a drive-in theater that is used primarily for the purpose of showing movies to the public for a fee.

Affected Public (Other): None.

Abstract: The Department's Civil Rights Division, Disability Rights Section (DRS), is requesting PRA approval of a new collection that would require movie theaters to disclose information to the public regarding the availability of closed movie captioning and audio description for movies shown in their auditoriums. On August 1, 2014, the Department published a notice of proposed rulemaking amending its ADA title III regulation, 28 CFR part 36, to specifically require movie theaters to provide closed movie captioning and audio description for patrons with hearing and vision disabilities (NPRM). 79 FR 44976. The NPRM proposed a new information collection requirement that is the subject of this notice. Proposed § 36.303(g)(5) stated that “movie theaters shall ensure that communications and advertisements intended to inform potential patrons of movie showings and times, that are provided by the theater through Web sites, posters, marquees, newspapers, telephone, and other forms of communications, shall provide information regarding the availability of closed movie captioning and audio description for each movie.” Movie theaters' disclosure of this information will enable individuals with hearing and vision disabilities to readily find out which theaters are showing movies with these features, and the times those movies are being shown. All public comments on the NPRM supported the inclusion of a notice requirement in some form.

5. An estimate of the total number of respondents and the amount of time estimated for an average respondent to respond: An estimated 1,876 respondents will be required to disclose information concerning the availability of closed movie captioning and audio description in their existing communications concerning movie showings and times. However, this number includes movie theaters that show analog movies exclusively. In the NPRM, the Department sought public comment on whether it should defer application of the proposed requirements for theaters with auditoriums that show analog movies exclusively. If the Department decides to defer coverage of analog auditoriums, then the number of respondents may drop. DRS estimates that all of the approximately 1,876 respondents will comply with this requirement.

Based on a review of current movie theater communications, it is estimated that an average of 10 minutes per respondent is needed to update existing notices of movie showings and times with this information. The Department acknowledges, however, that the amount of time it will take a respondent to comply with this requirement will likely vary because the amount of time necessary depends on the number of movies that the respondent is able to show at any given time.

Frequency: The Department anticipates that movie theaters will likely update their existing listings of movie showings and times to include information concerning the availability of closed movie captioning and audio description on a regular basis. The Department's research suggests that this information would only need to be updated whenever a new movie with these features is added to the schedule. This will vary as some movies stay on the schedule for longer periods of time than other movies, but the Department estimates that movie theaters will update their listings to include this information weekly. If, in the future, all movies are distributed with these features, specific notice on a movie-by-movie basis may no longer be necessary, and a movie theater may only need to advise the public that it shows movies with closed movie captioning and audio description.

6. An estimate of the total annual public burden (in hours) associated with the collection: The estimated public burden associated with this collection is 16,259 hours. It is estimated that respondents will take an average of 10 minutes (⅙ of an hour) to update their existing listings of movie showings and times to include this information and that such updates will occur weekly for new movies that are added to the schedule. The total annual public burden hours for disclosing this information sum to 16,258.67 hours (1,876 respondents × ⅙ hours × 52 times a year = 16,258 and ⅔ hours). Assuming a movie theater spends 10 minutes each week to update its notices of moving showings and times to include this information, the average movie theater firm will spend 8.67 hours annually (⅙ hour × 52 times) performing the necessary tasks to comply with this requirement.

If additional information is required, contact: Jerri Murray, Department Clearance Officer, United States Department of Justice, Justice Management Division, Policy and Planning Staff, Two Constitution Square, 145 N Street NE., 3E.405B, Washington, DC 20530.

Dated: August 25, 2016.
Jerri Murray,
Department Clearance Officer for PRA, U.S. Department of Justice.

[FR Doc. 2016-20775 Filed 8-29-16; 8:45 am]

BILLING CODE 4410-13-P